DEPARTMENT OF THE TREASURY

Submission for OMB Review; Comment Request

October 23, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11100, 1750 Pennsylvania Avenue, NW., Washington, DC 20220.

DATES: Written comments should be received on or before December 1, 2003, to be assured of consideration.

Financial Crimes Enforcement Network (FinCEN)

OMB Number: 1506-0003.

Form Number: FinCEN 103-N (Formerly IRS Form 8852).

Type of Review: Revision.

Title: Currency Transaction Reports by Casinos—Nevada.

Description: Casinos in Nevada file Form 103-N for currency transactions in excess of $10,000 a day pursuant to 31 U.S.C. 5313(a) and 31 CFR 103.22(a)(2) and Nevada rule 6A, Criminal investigators, and taxation and regulatory authorities use the form, during the course of investigations involving financial crimes.

Respondents: Business or other for-profit, Federal Government, State, local or tribal government.

Estimated Number of Respondents/Recordkeepers: 115.

Estimated Burden Hours Per Respondent/Recordkeeper: 19 minutes.

Frequency of Response: Other (as required).

Estimated Total Reporting/Recordkeeping Burden: 54,800 hours.

Clearance Officer: Steve Rudzinski, Financial Crimes Enforcement Network, Suite 200, 2070 Chain Bridge Road, Vienna, VA 22182, (703) 905-3845.

OMB Reviewer: Joseph F. Lackey, Jr., Office of Management and Budget, Room 10235, New Executive Office Building,Washington, DC 20503, (202) 395-7316.

Mary A. Able,
Treasury PRA Clearance Officer.

[FR Doc. 03-27349 Filed 10-29-03; 8:45 am]

BILLING CODE 4810-02-P